DEPARTMENT OF DEFENSE

Department of the Army

Privacy Act of 1974; System of Records

AGENCY: Department of the Army, DOD.

ACTION: Notice to alter a system of records.

SUMMARY: The Department of the Army is altering a system of records notice in its existing inventory of record systems subject to the Privacy Act of 1974, (5 U.S.C. 552a), as amended. The alteration adds a routine use to the system of records notice to permit the disclosure of information to news media.

DATES: This proposed action will be effective without further notice on September 29, 2000 unless comments are received which result in a contrary determination.

ADDRESSES: Privacy Act System Notice Manager, Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on August 18, 2000, to the House Committee on Government Reform, the Senate Committee on Governmental Affairs, and the Office of Management and Budget (OMB) pursuant to paragraph 4c of Appendix I to OMB Circular No. A-130 “Federal Agency Responsibilities for Maintaining Records About Individuals,” dated February 8, 1996 (February 20, 1996, 61 FR 6427).

Dated: August 24, 2000.
L.M. Bynum,
Alternate OSD Federal Register Liaison Officer, Department of Defense.

A0360-5 SAPA

SYSTEM NAME:

Biography Files (February 22, 1993, 58 FR 10002).

CHANGES:

* * * * *

CATEGORIES OF RECORDS IN THE SYSTEM:

Delete entry and replace with “Biographical material including name, position, rank, educational degrees/grade, summary of service, photographs, newspaper clippings, speeches, outstanding achievements may also be included and related documents.”

* * * * *

PURPOSE:

Delete entry and replace with “To respond to queries from the news Media, and Army agencies/commands relating to individuals concerned.”

ROUTINE USES OF RECORDS MAINTAINED IN THE SYSTEM, INCLUDING CATEGORIES OF USERS AND THE PURPOSES OF SUCH USES:

Add to entry “Records may be released to the news media to use for informational purposes.”

* * * * *

A0360-5 SPA

SYSTEM NAME:

Biography Files.

SYSTEM LOCATION:

Military records are located at General Officer Management Office, Office to the Chief of Staff, Army, 200 Army Pentagon, Washington, DC 20310-0200.

Civilian records are located at U.S. Army, Senior Executive Service Office, 111 Army Pentagon, Washington, DC 20310-0111.

CATEGORIES OF INDIVIDUALS COVERED BY THE SYSTEM:

Senior Department of the Army military and civilian personnel.

CATEGORIES OF RECORDS IN THE SYSTEM:

Biographical material including name, position, rank, educational degrees/grade, summary of service, photographs, newspaper clippings, speeches, outstanding achievements may also be included and related documents.

AUTHORITY FOR MAINTENANCE OF THE SYSTEM:

10 U.S.C. 3013, Secretary of the Army; Army Regulation 360-5, Public Information; Army Regulation 690-900, Chapter 920, Civilian Personnel-Senior Executive Service.

PURPOSE(S):

To respond to queries from the news media, and Army agencies/commands relating to individuals concerned.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

Records may be released to the news media to use for informational purposes.

The DoD “Blanket Routine Uses” set forth at the beginning of the Army's compilation of systems of records notices also apply to this system.

POLICIES AND PRACTICES FOR STORING, RETRIEVING, ACCESSING, RETAINING, AND DISPOSING OF RECORDS IN THE SYSTEM:

STORAGE:

Electronic media and paper records in file folders.

RETRIEVABILITY:

By individual's surname.

SAFEGUARDS:

Records are accessed only by designated officials having need therefor in the performance of their assigned duties. Storage areas are locked during non-duty hours.

RETENTION AND DISPOSAL:

Disposition pending. Until the National Archives and Records Administration approve the retention and disposal schedule, treat records as permanent.

SYSTEM MANAGER(S) AND ADDRESS:

Chief, General Officer Management Office, Office of the Chief of Staff, Army, 200 Army Pentagon, Washington, DC 20310-0200 for military records.

Chief, Office of the Secretary of the Army, U.S. Army Senior Executive Service Office, 111 Army Pentagon, Room 2C600 Washington, DC 20310-0111 for civilian records.

NOTIFICATION PROCEDURE:

Individuals seeking to determine whether information about themselves is contained in this system should address written inquiries to the Chief, General Officer Management Office, Office to the Chief of Staff, Army, 200 Army Pentagon, Washington, DC 20310-0200 for military records or to the Chief, U.S. Army, Senior Executive Service Office, 111 Army Pentagon, Washington, DC 20310-0111 for civilian records.

For verification purposes, individual should provide full name, current address and telephone number, and signature.

RECORD ACCESS PROCEDURES:

Individuals seeking access to information about themselves contained in the system should address written inquiries to the Chief, General Officer Management Office, Office to the Chief of Staff, Army, 200 Army Pentagon, Washington, DC 20310-0200 for military records or to the Chief, U.S. Army, Senior Executive Service Office, 111 Army Pentagon, Washington, DC 20310-0111 for civilian records.

For verification purposes, individual should provide full name, current address and telephone number, and signature.

CONTESTING RECORD PROCEDURES:

The Army's rules for accessing records, and for contesting contents and appealing initial agency determinations are contained in Army Regulation 340-21; 32 CFR part 505; or may be obtained from the system manager.

RECORD SOURCE CATEGORIES:

From the individual; clippings from published media; published media; published biographical data from Army records and reports.

EXEMPTIONS CLAIMED FOR THE SYSTEM:

None.

[FR Doc. 00-22084 Filed 8-29-00; 8:45 am]

BILLING CODE 5001-10-M